DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Evaluation for the Partnerships for Success Program—New

SAMHSA is conducting a cross-site evaluation of the Strategic Prevention Framework (SPF) Partnerships for Success (PFS) program, focusing on the PFS II cohort (first funded in 2012), PFS 2013 cohort (first funded in 2013), and PFS 2014 cohort (first funded in 2014) at both the grantee and community subrecipient levels. Grantees include states, jurisdictions, and tribal entities that subsequently fund community subrecipients to implement substance use prevention interventions. The overall goals of these SPF PFS cohorts is to prevent the onset and reduce the progression of substance abuse, prioritizing underage drinking (UAD) among persons age 12 to 20, prescription drug misuse and abuse (PDM) among persons age 12 to 25, or both; reduce substance abuse-related problems; strengthen prevention capacity and infrastructure at the grantee and community levels; and leverage, redirect, and align statewide funding streams and resources for prevention.

The SPF-PFS cross-site evaluation broadly aims to document and assess the factors that contribute to the effectiveness of the PFS approach to SAMHSA's mission of reducing UAD and PDM, including costs, inputs, outputs, and contextual factors. Targeted evaluation outcomes include both grantee- and community-level substance use intervening variables (e.g., perceived risk of binge drinking), consumption (e.g., past year PDM), and consequences (e.g., alcohol or prescription drug overdoses), especially those related to UAD and PDM.

The SPF-PFS cross-site evaluation will examine infrastructure, with a primary focus on monitoring grantees and community subrecipients to ensure they follow the SPF process, but will place a special emphasis on assessing capacity changes of the community subrecipients who all should be purposefully selected for their high need and low capacity. Another important aspect of the infrastructure evaluation for the SPF-PFS cross-site will be an examination of leveraged partner relationships. In addition, the SPF-PFS cross-site evaluation will collect detailed data about implemented evidence-based interventions, to provide a comprehensive typology of interventions and assess how various types and combinations impact outcomes. The SPF PFS cross-site also will examine economic issues, including associations between funding and outcomes and the cost-effectiveness of various intervention types and combinations.

The SPF-PFS cross site evaluation is expected to have numerous program and policy implications and outcomes at the national, state, and community levels. It will provide valuable information to the prevention field about best practices in real world settings, along with what types of adaptations community implementers make to evidence based interventions to better fit their targeted populations and settings. SPF-PFS cross-site findings will provide guidance to governmental entities and communities as to what types of interventions should be funded and implemented to reduce UAD and PDM. More specifically, this guidance will include information on what combinations or types of interventions work the best. Beyond intervention type and cost, the SPF-PFS cross-site evaluation also will provide a valuable assessment of the importance of leveraged funding as well as providing information about the process states, jurisdictions, tribes, and communities undergo to leverage funding. Information and guidance about leveraging that comes from the SPF-PFS cross site evaluation will allow the federal government, state, tribes, jurisdictions, and local communities to more effectively and efficiently use their resources and sustain future prevention efforts.

Data collection efforts for the evaluation include a Grantee-Level Instrument—Revised (GLI-R), a Community-Level Instrument—Revised (CLI-R), and a Project Director (PD) Interview which will collect key programmatic components hypothesized to be associated with program effectiveness, such as leveraged funding, type of prevention intervention, costs, etc.. The SPF PFS cross-site instruments have been informed by current and previous cross-site evaluation efforts for SAMHSA, drawing heavily from lessons learned through prior and currently OMB-approved SPF SIG evaluations (OMB No. 0930-0279).

The GLI-R is a web-based instrument to be completed by the PFS II, 2013, and 2014 grantee project directors (n=52), once at baseline and once in the final grant year. Baseline data for the PFS II and 2013 cohorts will be collected retrospectively. The GLI-R will provide categorical, qualitative, and quantitative data related to coordination of State efforts, use of strategic plans, access to data sources, data management, workforce development, cultural competence, sharing of evaluation data, and sustainability.

The CLI-R is a web-based instrument designed to be completed by the PFS II, 2013, and 2014 subrecipient community project directors (n=610) to assess subrecipients' progress through the SPF steps, prevention capacity, intervention implementation, and related funding and cost measures. The instrument will provide process data related to leveraging of funding, in-kind services, organizational capacity, collaboration with community partners, data infrastructure, planned intervention targets, intervention implementation (categorization, costs, adaptation, timing, dosage, and reach), cultural competence, evaluation, contextual factors, training and technical assistance needs, and sustainability. The CLI-R will be collected semiannually; however, not all questions will be answered every time. For instance, subrecipients will respond to items related to organizational capacity only at baseline and final follow-up, whereas they will respond to intervention implementation items every 6 months.

The PD Interview is a semi-structured telephone interview with grantee project directors designed to collect more in-depth information on subrecipient selection, criteria for intervention selection, continuation of SPF SIG activities, leveraging of funds, collaboration, evaluation activities, cultural competence policies, processes to impact health disparities, and challenges faced. The PD Interview will be collected at the beginning of the grant, in the third year of the grant, and in the final year of the grant. Baseline data for the PFS II and 2013 cohorts will be collected retrospectively and PFS II grantees will only participate in the interview at the beginning of their final year and at the close of their grant.

Annualize Burden Hours
Instrument | Number of respondents | Responses per respondent | Total number of responses | Hours per response | Total burden hours
GLI-RB | 17 | 1 | 17 | 1 | 17
SLI-R | 517 | 2 | 1,034 | 2.6 | 2,688
Grantee PD Interview | 30 | 1 | 30 | 1.4 | 42
Annualized Total | 564 |  | 1,081 |  | 2,747

Written comments and recommendations concerning the proposed information collection should be sent by January 29, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-30313 Filed 12-29-14; 8:45 am]

BILLING CODE 4162-20-P